Title 3—

The President

Proclamation 7336 of August 31, 2000

America Goes Back to School, 2000

By the President of the United States of America

A Proclamation

For America's students, the new school year is a time for learning lessons, making friends, and setting goals. For America's parents, it is a time to focus on the role education plays in their children's lives and future. And for our Nation, it is a time to strengthen our efforts to improve the quality of education and to make America's schools safe, nurturing places where children can reach their full potential.

This year a record 53 million young people will fill our schools—the highest enrollment in our Nation's history—and communities across the country are struggling to provide adequate classroom space and to hire qualified teachers to meet students' needs. To assist local school districts in meeting these critical challenges, my Administration's proposed education budget for fiscal 2001 includes tax credits and loans to help communities build and modernize 6,000 schools and to make emergency repairs to another 25,000. We have also requested an additional $1.75 billion to meet our goal of hiring 100,000 qualified teachers to reduce class size in the early grades and $1 billion in new funds to recruit and train high-quality teachers for every grade level. And we have proposed dramatic increases in the Federal investment in after-school and summer school programs, safe and drug-free schools, and support to help States and districts to turn around failing schools. These critical investments, coupled with my Administration's ongoing commitment to high standards and accountability, will help children across the country reach their full potential.

While the Federal Government has an important role to play in improving the quality of American education, it is the efforts of local school boards, families, and communities, working together, that make the crucial difference in preparing our children for the future. Parents who read with their children, monitor homework and out-of-school activities, demand high academic standards and challenging coursework, and encourage greater community support and investment in school activities have an enormous impact on their children's academic success. Similarly, businesses with family-friendly leave policies, community organizations that offer after-school programs, libraries that provide access to computers and educational software, volunteers who help children read or who serve as mentors—all of these people and programs help create supportive environments that enable students to make the most of their education.

America Goes Back to School is a nationwide initiative, in partnership with the Department of Education, to encourage and support family and community involvement in improving children's learning. The initiative's theme, “Challenge Our Students and They Will Soar,” reflects the importance of setting high expectations for America's young people and reminds us that we each have a role to play in providing our Nation's students with the schools, teachers, and standards they need to achieve their dreams and succeed in this new century.

NOW, THEREFORE, I, WILLIAM J. CLINTON, President of the United States of America, by virtue of the authority vested in me by the Constitution and laws of the United States, do hereby proclaim September 4 through September 10, 2000, as a time when America Goes Back to School. I encourage parents, schools, community and State leaders, businesses, civic and religious organizations, and the people of the United States to observe this period with appropriate ceremonies and activities expressing support for high academic standards and promoting family and community involvement in providing a quality education for every child.

IN WITNESS WHEREOF, I have hereunto set my hand this thirty-first day of August, in the year of our Lord two thousand, and of the Independence of the United States of America the two hundred and twenty-fifth.

wj

[FR Doc. 00-22913

Filed 9-1-00; 11:50 am]

Billing code 3195-01-P